DEPARTMENT OF TRANSPORTATION

National Highway Traffic Safety Administration

[Docket No. NHTSA-2008-0018; Notice 1]

Nissan North America, Inc., Receipt of Petition for Decision of Inconsequential Noncompliance

Nissan North America, Inc. (Nissan), has determined that certain vehicles that it manufactured during the period of April 5, 2007 to July 25, 2007, did not fully comply with paragraph S4.3(b) of 49 CFR 571.110 (Federal Motor Vehicle Safety Standards (FMVSS) No. 110 Tire Selection and Rims for Motor Vehicles With a GVWR of 4,536 Kilograms (10,000 Pounds) or Less). Nissan has filed an appropriate report pursuant to 49 CFR Part 573, Defect and Noncompliance Responsibility and Reports.

Pursuant to 49 U.S.C. 30118(d) and 30120(h) (see implementing rule at 49 CFR part 556), Nissan has petitioned for an exemption from the notification and remedy requirements of 49 U.S.C. Chapter 301 on the basis that this noncompliance is inconsequential to motor vehicle safety.

This notice of receipt of Nissan's petition is published under 49 U.S.C. 30118 and 30120 and does not represent any agency decision or other exercise of judgment concerning the merits of the petition.

Affected are approximately 321 Model Year 2008 Nissan Titan E-Grade trucks manufactured from April 5 to July 25, 2007. Paragraph S4.3(b) of 49 CFR 571.110 requires in pertinent part that:

S4.3 Placard. Each vehicle * * * shall show the information specified in S4.3 (a) through (g) * * * on a placard permanently affixed to the driver's side B-pillar * * *

(b) Designated seated capacity (expressed in terms of total number of occupants and number of occupants for each front and rear seat location)

Nissan explains that E-grade Titan trucks can be equipped with two front bucket seats as an option, which means it has two seats in the front and three in the back for a total of five seating positions. The space between the two front bucket seats is occupied by a hard plastic console with cup holders that cannot be used or mistaken for a seating position. The second row has 3 seating positions. On the subject vehicles, the tire information placard incorrectly states that the total vehicle seating capacity is 6, with 3 seats in the front row, and 3 seats in the second row. All other applicable requirements of FMVSS No. 110 are met.

Nissan states that it believes the noncompliance is inconsequential to motor vehicle safety for the following reasons:

1. The front center console area of this vehicle cannot be mistaken for a seating position because the center console is low to the floor, has molded-in cup holders, has no padded/cushioned area, and has no provisions for seatbelts. It is apparent to any observer that there are only two front seating positions. Even if an occupant referenced the tire information placard to determine the vehicle's front seating capacity, it is readily apparent that the total capacity is five and not six and front row capacity is two and not three.

2. Because the subject vehicle cannot be occupied by more than five people, there is no risk of vehicle overloading.

3. The vehicle capacity weight (expressed as a total weight for passengers and cargo) on the placard is correct. The seating capacity error has no impact on the vehicle capacity weight.

Nissan also states that there have been no customer complaints, injuries, or accidents related to the incorrect seating capacity of the subject tire information placard.

Additionally, Nissan stated that it believes that because the noncompliance is inconsequential to motor vehicle safety that no corrective action is warranted.

After receipt of the petition, Nissan also informed NHTSA that it has corrected the problem that caused these errors so that they will not be repeated in future production.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance.

Interested persons are invited to submit written data, views, and arguments on this petition. Comments must refer to the docket and notice number cited at the beginning of this notice and be submitted by any of the following methods:

a. By mail addressed to: U.S. Department of Transportation, Docket Operations, M-30, West Building Ground Floor, Room W12-140, 1200 New Jersey Avenue, SE., Washington, DC 20590.

b. By hand delivery to: U.S. Department of Transportation, Docket Operations, M-30, West Building Ground Floor, Room W12-140, 1200 New Jersey Avenue, SE., Washington, DC 20590. The Docket Section is open on weekdays from 10 a.m. to 5 p.m. except Federal Holidays.

c. Electronically: by logging onto the Federal Docket Management System (FDMS) Web site at http://www.regulations.gov/. Follow the online instructions for submitting comments. Comments may also be faxed to 1-202-493-2251.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: March 7, 2008.

Authority: (49 U.S.C. 30118, 30120: delegations of authority at CFR 1.50 and 501.8)

Issued on: January 30, 2008.
Claude H. Harris,
Director, Office of Vehicle Safety Compliance.

[FR Doc. E8-2099 Filed 2-5-08; 8:45 am]

BILLING CODE 4910-59-P